DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 26, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: National Management Information System (Wildlife Service).

OMB Control Number: 0579-0335.

Summary of Collection: The Secretary of Agriculture is authorized under 7 U.S.C. 8351-8353 to conduct a program of wildlife services with respect to injurious animal species and to enter into agreements with states, local jurisdictions, individuals, and public and private organizations and institutions for the control of nuisance mammals and birds and those mammal and bird species that are reservoirs of zoonotic diseases. These populations, if left unmanaged, can pose a risk to human health and safety and may cause tremendous economic damage to crops, livestock herds, and private property within the United States. The Wildlife Services (WS) program of the United States Department of Agriculture Animal and Plant Health Inspection Service is responsible for assisting the public with managing wildlife damage conflicts. WS provides advice or enters into agreements for its services. Through its technical assistance approach, WS offers advice through telephone or onsite consultations, training sessions, demonstration projects, and other means. Mitigation activities are then performed by the requester. Through its direct control approach, goods, services, and expertise are provided with appropriated and cooperative funds.

Need and Use of the Information: WS collects only information needed to determine appropriate courses of action for providing effective wildlife damage management services. Information is used by the agency to identify and differentiate between cooperators (i.e., property owners, land managers, or resource owners) who request assistance, and to identify land areas on which management activities would be conducted. Information is also collected to identify the relationship between resources or property, WS' protection of such resources or property, the damage caused by wildlife, and the management methods or activities required to mitigate the damage. Records are maintained of permissions to access cooperator property, wildlife damage occurrences on cooperator property and allowable methods to address wildlife damage, and occurrences which may have affected non-target species or humans during, or related to, WS project actions. Finally, information is used to help WS evaluate, modify, and improve its programs.

If left unmanaged, some wildlife species can pose a risk to human health and safety and may cause tremendous amounts of damage to crops, livestock herds, and private property within the United States. Without mitigation, the damage could result in severe physical and economic losses for States, tribes, businesses, organizations, and private property owners.

Description of Respondents: State and local jurisdictions, Tribes, public and private agencies, organizations, institutions, and individuals.

Number of Respondents: 77,712.

Frequency of Responses: Reporting: On occasion.

Total Burden Hours: 3,608.

Ruth Brown,
Departmental Information Collection Clearance Officer.

[FR Doc. 2022-18469 Filed 8-25-22; 8:45 am]

BILLING CODE 3410-34-P